DEPARTMENT OF COMMERCE

Foreign-Trade Zones Board

[S-54-2020]

Approval of Subzone Status; Mitsubishi Electric Automotive America, Inc., Maysville, Kentucky

On April 2, 2020, the Executive Secretary of the Foreign-Trade Zones (FTZ) Board docketed an application submitted by the Greater Cincinnati Foreign Trade Zone, Inc., grantee of FTZ 47, requesting subzone status subject to the existing activation limit of FTZ 47, on behalf of Mitsubishi Electric Automotive America, Inc., in Maysville, Kentucky.

The application was processed in accordance with the FTZ Act and Regulations, including notice in the Federal Register inviting public comment (85 FR 19726, April 8, 2020). The FTZ staff examiner reviewed the application and determined that it meets the criteria for approval. Pursuant to the authority delegated to the FTZ Board Executive Secretary (15 CFR 400.36(f)), the application to establish Subzone 47F was approved on May 26, 2020, subject to the FTZ Act and the Board's regulations, including Section 400.13, and further subject to FTZ 47's 2,000-acre activation limit.

Dated: May 26, 2020.
Andrew McGilvray,
Executive Secretary.

[FR Doc. 2020-11707 Filed 5-29-20; 8:45 am]

BILLING CODE 3510-DS-P